DEPARTMENT OF VETERANS AFFAIRS

Advisory Committee on Minority Veterans; Notice of Meeting

The Department of Veterans Affairs (VA) gives notice under the Public Law 92-463 (Federal Advisory Committee Act) that the Advisory Committee on Minority Veterans will meet at VA Central Office, 810 Vermont Avenue, NW., Washington, DC on April 16-19, 2007. The meeting is open to the public.

The meeting sessions and locations are as follows:

April 16, 2007 from 7:45 a.m. to 4 p.m., Room 230.

April 17, 2007 from 8 a.m. to 4:30 p.m., Room 230.

April 18, 2007 from 7:30 a.m. to 4:30 p.m., Room 230.

April 19, 2007 from 8:30 a.m. to 3:30 p.m., Room 530.

The purpose of the Committee is to advise the Secretary on the administration of VA benefits and services to minority veterans, to assess the needs of minority veterans and to evaluate whether VA compensation, medical and rehabilitation services, outreach, and other programs are meeting those needs. The Committee will make recommendations to the Secretary regarding such activities.

On April 16, the agenda will include briefings and updates from the Veterans Health Administration, the Veterans Benefits Administration, Readjustment Counseling Service, CARES, Loan Guaranty Service, and Policy & Program Management. On April 17, the agenda will include briefings and updates of the National Cemetery Administration, Human Resources Administration, National Veterans Employment Program, VA Strategic Plan, Telehealth, and the presentation of Certificates of Appointment to five new Committee members.

On April 18, the agenda will include briefings and updates on the Center for Women Veterans, seamless transition activities, the Fisher House/Center for the Intrepid, VA Office of Research and Development, homeless veterans programs, and DC National Guard. The agenda will also feature a panel of OIF/OEF soldiers from Walter Reed Army Medical Center. On April 19, the Committee will review and analyze comments presented during the meeting to prepare for the Committee's annual report and recommendations to the Secretary.

Any member of the public wishing to attend should contact Ms. Juanita J. Mullen, at the Department of Veterans Affairs, Center for Minority Veterans (OOM), 810 Vermont Avenue, NW., Washington, DC 20420. Ms. Mullen may be contacted either by phone at (202) 273-6708, fax at (202) 273-7092, or e-mail at Juanita.mullen@va.gov. Interested persons may attend, appear before, or file statements with the Committee. Written statements must be filed before the meeting, or within 10 days after the meeting.

Dated: March 19, 2007.
By direction of the Secretary.
E. Philip Riggin,
Committee Management Officer.

[FR Doc. 07-1430 Filed 3-22-07; 8:45 am]

BILLING CODE 8320-01-M